DEPARTMENT OF EDUCATION

[CFDA No.: 84.206A]

Office of Elementary and Secondary Education

Jacob K. Javits Gifted and Talented Students Education Program; Notice Inviting Applications for New Awards for Fiscal Year (FY) 2002; Correction

On May 24, 2002, we published a notice in the Federal Register (67 FR 36583 through 36586) inviting applications for new awards for the Jacob K. Javits Gifted and Talented Students Education Program, with a Deadline for Intergovernmental Review Date of June 24, 2002. The Deadline for Intergovernmental Review Date of “June 24, 2002” is corrected to read “August 7, 2002”.

FOR APPLICATIONS AND FURTHER INFORMATION CONTACT: Emily McAdams, U.S. Department of Education, Room 5W252, 400 Maryland Avenue, SW, Washington, DC 20202. Telephone: (202) 260-8753 or the following e-mail or Internet address: emily.mcadams@ed.gov

If you use a telecommunications device for the deaf (TDD), you may call the Federal Information Relay service (FIRS) at 1-80-877.8339.

Individuals with disabilities may obtain this document in an alternative format (e.g., Braille, large print, audiotape, or computer diskette) on request to the contact person listed.

Electronic Access to This Document

You may view this document, as well as all other Department of Education documents published in the Federal Register, in text or Adobe Portable Document Format (PDF) on the Internet at the following site: www.ed.gov/legislation/FedRegister

To use PDF you must have the Adobe Acrobat Reader, which is available free at this site. If you have questions about using PDF, call the U.S. Government Printing Office (GPO) toll free, at 1-888-293-6498; or in the Washington, DC area at (202) 512-1530.

Note: The official version of this document is the document published in the Federal Register. Free Internet access to the official edition of the Federal Register and the Code of Federal Regulations is available on GPO Access at: http://www.access.gpo.gov/nara/index/html.

Program Authority: 20 U.S.C. 7253 et seq.

Dated: June 24, 2002.
Susan B. Neuman,
Assistant Secretary for Elementary and Secondary Education.

[FR Doc. 02-16344 Filed 6-26-02; 8:45 am]

BILLING CODE 4000-01-P